DEPARTMENT OF ENERGY

Federal Energy Regulatory Commission

Combined Notice of Filings #1

Take notice that the Commission received the following exempt wholesale generator filings:

Docket Numbers: EG20-158-000.

Applicants: Wagyu Solar, LLC.

Description: Self-Certification of Exempt Wholesale Generator Status of Wagyu Solar, LLC.

Filed Date: 5/13/20.

Accession Number: 20200513-5165.

Comments Due: 5 p.m. ET 6/3/20.

Docket Numbers: EG20-159-000.

Applicants: Cubico Wagyu Lessee, LLC.

Description: Self-Certification of Exempt Wholesale Generator Status of Cubico Wagyu Lessee, LLC.

Filed Date: 5/13/20.

Accession Number: 20200513-5168.

Comments Due: 5 p.m. ET 6/3/20.

Docket Numbers: EG20-160-000.

Applicants: Desert Harvest, LLC.

Description: Notice of Self-Certification of Exempt Wholesale Generator Status of Desert Harvest, LLC.

Filed Date: 5/13/20.

Accession Number: 20200513-5171.

Comments Due: 5 p.m. ET 6/3/20.

Docket Numbers: EG20-161-000.

Applicants: Desert Harvest II LLC.

Description: Notice of Self-Certification of Exempt Wholesale Generator Status of Desert Harvest II LLC.

Filed Date: 5/13/20.

Accession Number: 20200513-5180.

Comments Due: 5 p.m. ET 6/3/20.

Take notice that the Commission received the following electric rate filings:

Docket Numbers: ER20-1132-001.

Applicants: PJM Interconnection, L.L.C., Silver Run Electric, LLC.

Description: Compliance filing: Compliance for PJM CTOA Attachment A for Silver Run Electric, LLC to be effective 4/28/2020.

Filed Date: 5/12/20.

Accession Number: 20200512-5147.

Comments Due: 5 p.m. ET 6/2/20.

Docket Numbers: ER20-1133-001.

Applicants: Silver Run Electric, LLC, PJM Interconnection, L.L.C.

Description: Compliance filing: Compliance for PJM OATT Attachment L for Silver Run Electric, LLC to be effective 4/28/2020.

Filed Date: 5/12/20.

Accession Number: 20200512-5149.

Comments Due: 5 p.m. ET 6/2/20.

Docket Numbers: ER20-1612-001.

Applicants: Avista Corporation.

Description: Tariff Amendment: Avista Corp RS #T1166 Broadview Cert of Concurrence to be effective 4/9/2020.

Filed Date: 5/13/20.

Accession Number: 20200513-5063.

Comments Due: 5 p.m. ET 6/3/20.

Docket Numbers: ER20-1811-000.

Applicants: Midcontinent Independent System Operator, Inc.

Description: § 205(d) Rate Filing: 2020-05-13_SA 3495 ITC-White Tail Solar GIA (J799) to be effective 5/5/2020.

Filed Date: 5/13/20.

Accession Number: 20200513-5028.

Comments Due: 5 p.m. ET 6/3/20.

Docket Numbers: ER20-1812-000.

Applicants: Public Service Electric and Gas Company, PECO Energy Company.

Description: Request for Waiver, et al. of Public Service Electric and Gas Company, et al.

Filed Date: 5/12/20.

Accession Number: 20200512-5178.

Comments Due: 5 p.m. ET 5/18/20.

Docket Numbers: ER20-1813-000.

Applicants: Dunkirk Power LLC.

Description: Tariff Cancellation: Notice of Cancellation to be effective 5/14/2020.

Filed Date: 5/13/20.

Accession Number: 20200513-5075.

Comments Due: 5 p.m. ET 6/3/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 13, 2020.
Nathaniel J. Davis, Sr.,
Deputy Secretary.

[FR Doc. 2020-10702 Filed 5-18-20; 8:45 am]

BILLING CODE 6717-01-P